DEPARTMENT OF THE INTERIOR

Geological Survey

[USGS-GX12EE000101000]

Coastal and Marine Ecological Classification Standard

AGENCY: Department of the Interior, U.S. Geological Survey.

ACTION: Notice of endorsement of coastal and marine ecological classification standard.

SUMMARY: The Federal Geographic Data Committee (FGDC) has endorsed the Coastal and Marine Ecological Classification Standard (CMECS) as the first-ever comprehensive federal data standard for classifying and describing coastal and marine ecosystems.

CMECS provides a means of classifying ecological and habitat units using a common terminology. It provides a uniform protocol for identifying, characterizing and naming ecological units in support of monitoring, protection, and restoration of unique biotic assemblages, protected species, critical habitat, and important ecosystem components.

FOR FURTHER INFORMATION CONTACT: Documentation for the standard is available for download at www.csc.noaa.gov/cmecs. A searchable online catalog of CMECS units and their descriptions is available at www.cmecscatalog.org.

FOR FURTHER INFORMATION CONTACT: Dr. Rebecca Allee, NOAA Coastal Services Center—Gulf Coast Region, Building 1100, Suite 232, Stennis Space Center, MS 39529, Email: nos.csc.cmecs_ig@noaa.gov.

SUPPLEMENTARY INFORMATION: CMECS offers a simple standard framework and common terminology for describing natural and human influenced ecosystems, from the upper tidal reaches of estuaries to the deepest portions of the ocean. The framework is organized into two settings, biogeographic and aquatic, and four components, water column, geoform, substrate, and biotic. Each describes a separate aspect of the environment and biota. Settings and components can be used in combination or independently to describe ecosystem features. The hierarchical arrangement of units in the settings and components allows users to apply CMECS to the scale and specificity that best suits their needs. Modifiers allow users to customize the classification to meet specific needs.

CMECS is designed to meet the needs of many users, including coastal resource managers and planners, development interests, engineers, mappers, and researchers from government, industry, and academia. The system was also developed to address applications on scales ranging from local and regional to national and beyond.

FGDC member agencies the National Oceanic and Atmospheric Administration, the U.S. Environmental Protection Agency, and the U.S. Geological Survey, along with NatureServe, worked with over one hundred scientists and coastal managers to develop and test the standard. CMECS has been applied in projects in a variety of geographies. A rigorous four month public and peer review process led to consideration of and response to more than 800 individual comments from 31 individuals and organizations.

The use and application of CMECS will improve our knowledge of marine ecosystems and may bring to light other necessary additions and adjustments to the standard. Users are encouraged to provide suggestions about possible changes to CMECS, which will follow a regular peer review and revision cycle. Protocols and tools for this process are currently in development.

Practical applications for CMECS include:

• Ecosystem inventory and mapping

• Coastal and marine spatial planning

• Marine Protected Area selection, evaluation, and assessment

• Resource management and monitoring

• Conservation status assessment

• Habitat modeling

The FGDC coordinates the development of the National Spatial Data Infrastructure (NSDI), which encompasses the policies, standards, and procedures for organizations to cooperatively produce and share geospatial data. Federal agencies that make up the FGDC develop the NSDI in cooperation with organizations from State, local and tribal governments, the academic community, and the private sector. The authority for the FGDC is OMB Circular No. A-16, “Revised on Coordination of Geographic Information and Related Spatial Data Activities (Revised August 19, 2002).” Additional information on the FGDC and the NSDI is available at www.fgdc.gov.

Dated: August 23, 2012.
Ivan DeLoatch,
Executive Director, Federal Geographic Data Committee.

[FR Doc. 2012-21552 Filed 8-30-12; 8:45 am]

BILLING CODE 4311-AM-P